NATIONAL SCIENCE FOUNDATION

Proposal Review Panel for Materials Research; Notice of Meeting

In accordance with the Federal Advisory Committee Act (Pub. L. 92-463 as amended), the National Science Foundation announces the following meeting:

Name: Site Visit review of the Materials Research Science and Engineering Center (MRSEC) at Yale University, also called Center for Research on Interface Structures and Phenomena, by NSF Division of Materials Research (DMR) #1203

Dates and Times: February 20, 2013 7:45 a.m.-5:00 p.m.

Place: Yale University, New Haven, CT.

Type of Meeting: Part-open.

Contact Person: Dr. Charles Bouldin, Program Director, Materials Research Science and Engineering Centers Program, Division of Materials Research, Room 1065, National Science Foundation, 4201 Wilson Boulevard, Arlington, VA 22230, Telephone (703) 292-4920.

Purpose of Meeting: To provide advice and recommendations concerning further support of the MRSEC at Yale University.

Agenda:

Monday, February 20

7:45 a.m.-9:00 a.m. Closed—Executive Session

9:00 a.m.-4:15 p.m. Open—Review of the Yale MRSEC

4:15 p.m.-5:00 p.m. Closed—Executive Session

Reason for Closing: The work being reviewed may include information of a proprietary or confidential nature, including technical information; financial data, such as salaries and personal information concerning individuals associated with the proposals. These matters are exempt under 5 U.S.C. 552b(c), (4) and (6) of the Government in the Sunshine Act.

Dated: January 18, 2013.
Susanne Bolton,
Committee Management Officer.

[FR Doc. 2013-01426 Filed 1-24-13; 8:45 am]

BILLING CODE 7555-01-P